DEPARTMENT OF ENERGY

10 CFR Part 430

[EERE-2021-BT-STD-0005]

RIN 1904-AF09

Energy Conservation Program: Backstop Requirement for General Service Lamps

AGENCY: Office of Energy Efficiency and Renewable Energy, Department of Energy.

ACTION: Request for information.

SUMMARY: The U.S. Department of Energy (“DOE”) is re-evaluating its prior determination that the Secretary of Energy (“Secretary”) was not required to implement the statutory backstop requirement for general service lamps (“GSLs”). Under the Energy Policy and Conservation Act, as amended, if DOE fails to complete a rulemaking in accordance with certain statutory criteria, or if a final rule for GSLs does not produce savings that are greater than or equal to the savings from a minimum efficacy standard of 45 lumens per watt (“lm/W”), the Secretary must prohibit the sale of any GSL that does not meet a minimum efficacy standard of 45 lm/W. This request for information (“RFI”) solicits information from the public regarding the availability of lamps that would satisfy a minimum efficacy standard of 45 lm/W, as well other information that may be relevant to a possible implementation of the statutory backstop.

DATES: Written comments and information are requested and will be accepted on or before June 24, 2021.

ADDRESSES: Interested persons are encouraged to submit comments using the Federal eRulemaking Portal at https://www.regulations.gov. Follow the instructions for submitting comments. Alternatively, interested persons may submit comments, identified by docket number EERE-20X21-BT-STD-0005, by any of the following methods:

1. Federal eRulemaking Portal: https://www.regulations.gov. Follow the instructions for submitting comments.

2. Email: to GSL2021STD0005@ee.doe.gov. Include docket number EERE-20X21-BT-STD-0005 in the subject line of the message.

No telefacsimiles (“faxes”) will be accepted. For detailed instructions on submitting comments and additional information on this process, see section III of this document.

Although DOE has routinely accepted public comment submissions through a variety of mechanisms, including postal mail and hand delivery/courier, the Department has found it necessary to make temporary modifications to the comment submission process in light of the ongoing Covid-19 pandemic. DOE is accepting only electronic submissions at this time. If a commenter finds that this change poses an undue hardship, please contact Appliance Standards Program staff at (202) 586-1445 to discuss the need for alternative arrangements. Once the Covid-19 pandemic health emergency is resolved, DOE anticipates resuming all of its regular options for public comment submission, including postal mail and hand delivery/courier.

Docket: The docket for this activity, which includes Federal Register notices, comments, and other supporting documents/materials, is available for review at https://www.regulations.gov. All documents in the docket are listed in the https://www.regulations.gov index. However, some documents listed in the index, such as those containing information that is exempt from public disclosure, may not be publicly available.

The docket web page can be found at https://www.regulations.gov/#!docketDetail;D=EERE-2021-BT-STD-0005. The docket web page contains instructions on how to access all documents, including public comments, in the docket.

FOR FURTHER INFORMATION CONTACT: Dr. Stephanie Johnson, U.S. Department of Energy, Office of Energy Efficiency and Renewable Energy, Building Technologies Office, EE-5B, 1000 Independence Avenue SW, Washington, DC 20585-0121. Telephone: (202) 287-1943. Email: ApplianceStandardsQuestions@ee.doe.gov.

Ms. Celia Sher, U.S. Department of Energy, Office of the General Counsel, GC-33, 1000 Independence Avenue SW, Washington, DC 20585-0121. Telephone: (202) 287-6122. Email: Celia.Sher@hq.doe.gov.

For further information on how to submit a comment, or review other public comments and the docket, contact the Appliance and Equipment Standards Program staff at (202) 287-1445 or by email: ApplianceStandardsQuestions@ee.doe.gov.

SUPPLEMENTARY INFORMATION:

Table of Contents

I. Introduction

A. Authority

B. Background

II. Request for Information and Comments

A. General Service Lamp Definition

B. Availability of GSLs That Comply With the Backstop Requirement

III. Submission of Comments

I. Introduction

A. Authority

The Energy Policy and Conservation Act, as amended (“EPCA”),¹ authorizes DOE to regulate the energy efficiency of a number of consumer products and certain industrial equipment. (42 U.S.C. 6291-6317) Title III, Part B ² of the EPCA, established the Energy Conservation Program for Consumer Products Other Than Automobiles. (42 U.S.C. 6291-6309) These products include GSLs.

¹ All references to EPCA in this document refer to the statute as amended through the Energy Act of 2020, Public Law 116-260 (Dec. 27, 2020).

² For editorial reasons, upon codification in the U.S. Code, Part B was redesignated Part A.

EPCA directs DOE to conduct two rulemaking cycles to evaluate energy conservation standards for GSLs. (42 U.S.C. 6295(i)(6)(A)-(B)) GSLs are defined in EPCA to include general service incandescent lamps (“GSILs”), compact fluorescent lamps (“CFLs”), general service light-emitting diode (“LED”) lamps and organic light emitting diode (“OLED”) lamps, and any other lamps that the Secretary of Energy (Secretary) determines are used to satisfy lighting applications traditionally served by general service incandescent lamps. (42 U.S.C. 6291(30)(BB)(i)) The term “general service lamp” does not include any of the 22 lighting applications or bulb shapes explicitly not included in the definition of “general service incandescent lamp,” ³ or any general service fluorescent lamp or incandescent reflector lamp. (42 U.S.C. 6291(30)(BB)(ii))

³ As defined in EPCA “general service incandescent lamp” does not include the following incandescent lamps: (I) An appliance lamp; (II) A black light lamp; (III) A bug lamp; (IV) A colored lamp; (V) An infrared lamp; (VI) A left-hand thread lamp; (VII) A marine lamp; (VIII) A marine signal service lamp; (IX) A mine service lamp; (X) A plant light lamp; (XI) A reflector lamp; (XII) A rough service lamp; (XIII) A shatter-resistant lamp (including a shatter-proof lamp and a shatter-protected lamp); (XIV) A sign service lamp; (XV) A silver bowl lamp; (XVI) A showcase lamp; (XVII) A 3-way incandescent lamp; (XVIII) A traffic signal lamp; (XIX) A vibration service lamp; (XX) A G shape lamp (as defined in ANSI C78.20-2003 and C79.1-2002 1 with a diameter of 5 inches or more; (XXI) A T shape lamp (as defined in ANSI C78.20-2003 and C79.1-2002) and that uses not more than 40 watts or has a length of more than 10 inches; (XXII) A B, BA, CA, F, G16-1/2, G-25, G30, S, or M-14 lamp (as defined in ANSI C79.1-2002 and ANSI C78.20-2003) of 40 watts or less. (42 U.S.C. 6291(30)(D)(ii))

For the first rulemaking cycle, EPCA directs DOE to initiate a rulemaking process prior to January 1, 2014, to consider two questions: (1) Whether to amend energy conservation standards for general service lamps and (2) whether “the exemptions for certain incandescent lamps should be maintained or discontinued.” (42 U.S.C. 6295(i)(6)(A)(i)) Further, if the Secretary determines that the standards in effect for GSILs should be amended, EPCA provides that a final rule must be published by January 1, 2017, with a compliance date at least 3 years after the date on which the final rule is published. (42 U.S.C. 6295(i)(6)(A)(iii)) In developing such a rule, DOE must consider a minimum efficacy standard of 45 lm/W. (42 U.S.C. 6295(i)(6)(A)(ii)) If DOE fails to complete a rulemaking in accordance with 42 U.S.C. 6295(i)(6)(A)(i)-(iv) or a final rule from the first rulemaking cycle does not produce savings greater than or equal to the savings from a minimum efficacy standard of 45 lm/W, the statute provides a “backstop” under which DOE must prohibit sales of GSLs that do not meet a minimum 45 lm/W standard. (42 U.S.C. 6295(i)(6)(A)(v))

EPCA further directed DOE to initiate a second rulemaking cycle by January 1, 2020, to determine whether standards in effect for GSILs, a subset of GSLs, should be amended with more stringent requirements and whether the exemptions for certain incandescent lamps should be maintained or discontinued. (42 U.S.C. 6295(i)(6)(B)(i)) The scope of this rulemaking is also not limited to incandescent lamp technologies. (42 U.S.C. 6295(i)(6)(B)(ii))

B. Background

DOE initiated the first GSL standards rulemaking process by publishing in the Federal Register a notice of public meeting and availability of the framework document. 78 FR 73737 (Dec. 9, 2013); see also 79 FR 73503 (Dec. 11, 2014) (notice of public meeting and availability of preliminary technical support document) (“December 2014 Preliminary Analysis”). DOE later issued a notice of proposed rulemaking (“NOPR”) to propose amended energy conservation standards for GSLs (“March 2016 NOPR”). 81 FR 14528, 14629-14630 (Mar. 17, 2016). The March 2016 NOPR focused on the first question that Congress directed DOE to consider—whether to amend energy conservation standards for GSLs. (42 U.S.C. 6295(i)(6)(A)(i)(I)) In the March 2016 NOPR proposing energy conservation standards for GSLs, DOE stated that it would be unable to undertake any analysis regarding GSILs and other incandescent lamps because of a then-applicable congressional restriction (“the Appropriations Rider”) ⁴ on the use of appropriated funds to implement or enforce 10 CFR 430.32(x). 81 FR 14528, 14540-14541 (Mar. 17, 2016). Notably, the Appropriations Rider originally was adopted in 2011 and was readopted and extended continuously in multiple subsequent legislative actions, and expired on May 5, 2017, when the Consolidated Appropriations Act of 2017 was enacted.⁵

⁴ Section 312 of the Consolidated and Further Continuing Appropriations Act, 2016 (Pub. L. 114- 113, 129 Stat. 2419) prohibits expenditure of funds appropriated by that law to implement or enforce: (1) 10 CFR 430.32(x), which includes maximum wattage and minimum rated lifetime requirements for GSILs; and (2) standards set forth in section 325(i)(1)(B) of EPCA (42 U.S.C. 6295(i)(1)(B)), which sets minimum lamp efficiency ratings for incandescent reflector lamps.

⁵ See the Consolidated Appropriations Act, 2017 (Pub. L. 115-31, div. D, tit. III); see also, Consolidated Appropriations Act, 2018 (Pub. L. 115-141).

In response to comments on the March 2016 NOPR, DOE conducted additional research and published a notice of proposed definition and data availability (“NOPDDA”), which proposed to amend the definitions of GSIL, GSL, and related terms (“October 2016 NOPDDA”). 81 FR 71794, 71815 (Oct. 18, 2016). DOE explained that the October 2016 NOPDDA related to the second question that Congress directed DOE to consider—whether “the exemptions for certain incandescent lamps should be maintained or discontinued”—and stated explicitly that the NOPDDA was not a rulemaking to establish an energy conservation standard for GSLs. (42 U.S.C. 6295(i)(6)(A)(i)(II)); see also 81 FR 71798. The relevant “exemptions,” DOE explained, referred to the 22 categories of incandescent lamps that are statutorily excluded from the definitions of GSIL and GSL. 81 FR 71798. In the October 2016 NOPDDA, DOE clarified that it was defining what lamps constitute GSLs so that manufacturers could understand how any potential energy conservation standards might apply to the market. Id.

On January 19, 2017, DOE published two final rules concerning the definitions of GSL, GSIL, and related terms (“January 2017 Definition Final Rules”). 82 FR 7276; 82 FR 7322. The January 2017 Definition Final Rules amended the definitions of GSIL and GSL by bringing certain categories of lamps that had been excluded by statute from the definition of GSIL within the definitions of GSIL and GSL. These two rules were issued simultaneously, with the first rule maintaining the existing exemption for incandescent reflector lamps (“IRLs”) in the definition of GSL and the second rulemaking determining to discontinue the exemption from the GSL definition for IRLs. Like the October 2016 NOPDDA, DOE stated that the January 2017 Definition Final Rules related only to the second question that Congress directed DOE to consider, regarding whether to maintain or discontinue certain “exemptions.” (42 U.S.C. 6295(i)(6)(A)(i)(II)). That is, neither of the two final rules issued on January 19, 2017, established energy conservation standards applicable to GSLs. DOE explained that the Appropriations Rider prevented it from establishing, or even analyzing, standards for GSILs. 82 FR 7276, 7278. Instead, DOE explained that it may impose standards for GSLs in the future, and if it does not, then GSLs would be subject to the statutory backstop of 45 lm/W. 82 FR 7276, 7277-7278. The two final rules were to become effective as of January 1, 2020.

With the removal of the Appropriations Rider in the Consolidated Appropriations Act, 2017, DOE was no longer restricted from undertaking the analysis and decision-making required to address the first question presented by Congress, i.e., whether to amend energy conservation standards for general service lamps, including GSILs. Thus, on August 15, 2017, DOE published a notice of data availability and request for information (“NODA”) seeking data for GSILs and other incandescent lamps (“August 2017 NODA”). 82 FR 38613.

The purpose of the August 2017 NODA was to assist DOE in making a decision on the first question posed to DOE by Congress; i.e., a determination regarding whether standards for GSILs should be amended. Comments submitted in response to the August 2017 NODA also led DOE to re-consider the decisions it had already made with respect to the second question presented to DOE—i.e., whether the exemptions for certain incandescent lamps should be maintained or discontinued. As a result of the comments received in response to the August 2017 NODA, DOE also re-assessed the legal interpretations underlying certain decisions made in the January 2017 Definition Final Rules.

On February 11, 2019, DOE published a NOPR proposing to withdraw the revised definitions of GSL, GSIL and other related terms that were to go into effect on January 1, 2020 (“February 2019 Definition NOPR”). 84 FR 3120. In a final rule published September 5, 2019, DOE finalized the withdrawal of the definitions in the January 2017 Definition Final Rules and instead maintained the existing regulatory definitions of GSL and GSIL, which are the same as the statutory definitions of those terms (“September 2019 Definition Final Rule”). 84 FR 46661. In the September 2019 Definition Final Rule, DOE stated that the obligation to issue a final rule prescribing standards by a date certain applies if, and only if, the Secretary makes a determination that standards in effect for GSILs need to be amended. 84 FR 46661, 46663. DOE further stated that, since it had not yet made the predicate determination on whether to amend standards for GSILs, the obligation to issue a final rule by a date certain did not yet exist and, as a result, the condition precedent to the potential imposition of the backstop requirement did not yet exist and no backstop requirement has yet been imposed. 84 FR 46661, 46664.

DOE initiated a rulemaking to determine whether standards for GSILs should be amended by publishing a notice of proposed determination (“NOPD”) on September 5, 2019 (“September 2019 NOPD”). 84 FR 46830. In a final determination published on December 27, 2019, DOE determined that amending energy conservation standards for GSILs was not economically justified (“December 2019 Final Determination”). 84 FR 71626. DOE also concluded in the December 2019 Final Determination that, because it had made the predicate determination not to amend standards for GSILs, there was no obligation to issue a final rule by January 1, 2017, and thus the backstop sales prohibition had not been triggered and was not in effect. 84 FR 71626, 71636.

On January 20, 2021, President Biden issued Executive Order (“E.O.”) 13990, “Protecting Public Health and the Environment and Restoring Science to Tackle the Climate Crisis.” 86 FR 7037 (Jan. 25, 2021). Section 1 of that Order lists a number of policies related to the protection of public health and the environment, including reducing greenhouse gas emissions and bolstering the Nation's resilience to climate change. Id. at 86 FR 7037, 7041. Section 2 of the Order instructs all agencies to review “existing regulations, orders, guidance documents, policies, and any other similar agency actions promulgated, issued, or adopted between January 20, 2017, and January 20, 2021, that are or may be inconsistent with, or present obstacles to, [these policies].” Id. Agencies are then directed, as appropriate and consistent with applicable law, to consider suspending, revising, or rescinding these agency actions and to immediately commence work to confront the climate crisis. Id.

In accordance with E.O. 13990, DOE is re-evaluating its understanding of the backstop requirement

II. Request for Information and Comments

As described in section I.A of this document, EPCA specifies several criteria that DOE must adhere to in its first rulemaking cycle for GSLs. (See 42 U.S.C. 6295(i)(6)(A)(i)-(iv)) Under the backstop requirement, if DOE fails to complete a rulemaking in accordance with the statutory criteria, or if the final rule does not produce a certain amount of energy savings, the Secretary must prohibit the sale of GSLs that do not meet a minimum efficacy standard. (42 U.S.C. 6295(i)(6)(A)(v)) Were DOE to determine that DOE did not fulfill the criteria in paragraphs (i)-(iv) of section 6295, the sales prohibition under the backstop requirement would affect any lamp type that is defined as a GSL. As such, DOE requests certain information about the lamp types discussed in the following sections, including whether a phased implementation would be appropriate for certain lamp types.

A. General Service Lamp Definition

DOE's regulatory definition for GSL is consistent with the statutory definition for GSL. GSL is defined in EPCA to include GSILs, CFLs, general service LED lamps and OLED lamps, and any other lamps that the Secretary determines are used to satisfy lighting applications traditionally served by GSILs. 10 CFR 430.2. (See also, 42 U.S.C. 6291(30)(BB)(i)) DOE's regulatory definition of “general service lamp” does not include any of the 22 lighting applications or bulb shapes explicitly not included in the definition of “general service incandescent lamp,” or any general service fluorescent lamp or incandescent reflector lamp. 10 CFR 430.2. (See also, 42 U.S.C. 6291(30)(BB)(ii))

By comparison, the definition of GSL as amended by the January 2017 Definition Final Rules was broader than the statutory definition. The January 2017 Definition Final Rules defined a GSL as a lamp that had an ANSI base; was able to operate at a voltage of 12 volts or 24 volts, at or between 100 to 130 volts, at or between 220 to 240 volts, or of 277 volts for integrated lamps, or was able to operate at any voltage for non-integrated lamps; had an initial lumen output of greater than or equal to 310 lumens (or 232 lumens for modified spectrum general service incandescent lamps) and less than or equal to 3,300 lumens; was not a light fixture; was not an LED downlight retrofit kit; and was used in general lighting applications. General service lamps included, but were not limited to, general service incandescent lamps, compact fluorescent lamps, general service light-emitting diode lamps, and general service organic light-emitting diode lamps. General service lamps did not include:

(1) Appliance lamps;

(2) Black light lamps;

(3) Bug lamps;

(4) Colored lamps;

(5) G shape lamps with a diameter of 5 inches or more as defined in ANSI C79.1-2002;

(6) General service fluorescent lamps;

(7) High intensity discharge lamps;

(8) Infrared lamps;

(9) J, JC, JCD, JCS, JCV, JCX, JD, JS, and JT shape lamps that do not have Edison screw bases;

(10) Lamps that have a wedge base or prefocus base;

(11) Left-hand thread lamps;

(12) Marine lamps;

(13) Marine signal service lamps;

(14) Mine service lamps;

(15) MR shape lamps that have a first number symbol equal to 16 (diameter equal to 2 inches) as defined in ANSI C79.1-2002, operate at 12 volts, and have a lumen output greater than or equal to 800;

(16) Other fluorescent lamps;

(17) Plant light lamps;

(18) R20 short lamps;

(19) Reflector lamps that have a first number symbol less than 16 (diameter less than 2 inches) as defined in ANSI C79.1- 2002 and that do not have E26/E24, E26d, E26/50x39, E26/53x39, E29/28, E29/53x39, E39, E39d, EP39, or EX39 bases;

(20) S shape or G shape lamps that have a first number symbol less than or equal to 12.5 (diameter less than or equal to 1.5625 inches) as defined in ANSI C79.1-2002;

(21) Sign service lamps;

(22) Silver bowl lamps;

(23) Showcase lamps;

(24) Specialty MR lamps;

(25) T shape lamps that have a first number symbol less than or equal to 8 (diameter less than or equal to 1 inch) as defined in ANSI C79.1-2002, nominal overall length less than 12 inches, and that are not compact fluorescent lamps;

(26) Traffic signal lamps.

See 82 FR 7276, 7321 and 82 FR 7322, 7333.

Similarly, the definition of GSIL as amended by the January 2017 Definition Final Rules was also broader than the statutory definition. The January 2017 Definition Final Rules defined a GSIL as a standard incandescent or halogen type lamp that was intended for general service applications; had a medium screw base; had a lumen range of not less than 310 lumens and not more than 2,600 lumens or, in the case of a modified spectrum lamp, not less than 232 lumens and not more than 1,950 lumens; and was capable of being operated at a voltage range at least partially within 110 and 130 volts; however this definition did not apply to the following incandescent lamps—

(1) An appliance lamp;

(2) A black light lamp;

(3) A bug lamp;

(4) A colored lamp;

(5) A G shape lamp with a diameter of 5 inches or more as defined in ANSI C79.1-2002;

(6) An infrared lamp;

(7) A left-hand thread lamp;

(8) A marine lamp;

(9) A marine signal service lamp;

(10) A mine service lamp;

(11) A plant light lamp;

(12) An R20 short lamp;

(13) A sign service lamp;

(14) A silver bowl lamp;

(15) A showcase lamp; and

(16) A traffic signal lamp.

See 82 FR 7276, 7321.

B. Availability of GSLs That Comply With The Backstop Requirement

EPCA provides that, if DOE does not complete a rulemaking that meets certain criteria, DOE is required to prohibit the sale of any GSL that does not meet a minimum efficacy standard of 45 lm/W. DOE recognizes that this prohibition would present different implementation challenges than most DOE standards, which are based on the date of manufacturing. Notably, specifying a date beyond which certain GSLs can no longer be sold could possibly lead to stranded inventory. DOE recognizes that manufacturers, distributors, and retailers would need to take steps to account for the supply chain to avoid inventory that could not be sold legally.

For these reasons, DOE is publishing an RFI seeking comment and information on the availability of GSLs that have an efficacy of at least 45 lm/W. DOE is also requesting comment and information on the availability of lamp types excluded from the definition of GSL that have an efficacy of at least 45 lm/W. To the extent that such lamps are not currently available, DOE is seeking information on the expected availability of such lamps and the expected timetable to bring such lamps to the market.

Issue 1: DOE requests information on the availability of lamps defined as GSLs that have a minimum efficacy of 45 lm/W. To the extent available, DOE requests information for all lumen outputs, voltages, and base types included in the GSL definition.

Issue 2: DOE requests information of the availability of lamps excluded from the definition of GSL that have a minimum efficacy of 45 lm/W. To the extent available, DOE requests information for all lumen outputs, voltages, and base types of such lamps.

Issue 3: To the extent that any lamp type within the definition of GSL or any lamp type excluded from the definition of GSL already performs at a minimum efficacy of 45 lm/W, DOE requests information on the percent of the market of that lamp type represented by the 45 lm/W lamps.

Issue 4: If a lamp type within the definition of GSL or a lamp type excluded from the definition of GSL does not currently have units with an efficacy of at least 45 lm/W, DOE requests information on whether it is possible to create lamps in that category that perform at such a level and how long it would take for those products to be sold at retail locations.

Issue 5: Given normal stock levels, how long does it take for a store to sell through its inventory of lamps (i.e. from when the lamp arrives at the store to when the store sells it to a customer)?

Issue 6: What steps would manufacturers/retailers need to take to avoid stranded inventory for lamps that do not have an efficacy of at least 45 lm/W? How long would each step take (i.e., how early must a manufacturer/retailer know that a lamp cannot be sold to avoid stranded inventory)?

Issue 7: If manufacturers/retailers end up with stranded inventory, what will they do with it (e.g., will it be destroyed or exported)? What are the costs associated with handling the stranded inventory?

III. Submission of Comments

DOE invites all interested parties to submit in writing by the date specified in the DATES section of this document, comments and information on matters addressed in this document and on other matters relevant to DOE's consideration of how, if triggered, the backstop requirement for GSLs could be implemented.

Submitting comments via https://www.regulations.gov. The https://www.regulations.gov web page requires you to provide your name and contact information. Your contact information will be viewable to DOE Building Technologies Office staff only. Your contact information will not be publicly viewable except for your first and last names, organization name (if any), and submitter representative name (if any). If your comment is not processed properly because of technical difficulties, DOE will use this information to contact you. If DOE cannot read your comment due to technical difficulties and cannot contact you for clarification, DOE may not be able to consider your comment.

However, your contact information will be publicly viewable if you include it in the comment or in any documents attached to your comment. Any information that you do not want to be publicly viewable should not be included in your comment, nor in any document attached to your comment. If this instruction is followed, persons viewing comments will see only first and last names, organization names, correspondence containing comments, and any documents submitted with the comments.

Do not submit to https://www.regulations.gov information for which disclosure is restricted by statute, such as trade secrets and commercial or financial information (hereinafter referred to as Confidential Business Information (“CBI”)). Comments submitted through https://www.regulations.gov cannot be claimed as CBI. Comments received through the website will waive any CBI claims for the information submitted. For information on submitting CBI, see the Confidential Business Information section.

DOE processes submissions made through https://www.regulations.gov before posting. Normally, comments will be posted within a few days of being submitted. However, if large volumes of comments are being processed simultaneously, your comment may not be viewable for up to several weeks. Please keep the comment tracking number that https://www.regulations.gov provides after you have successfully uploaded your comment.

Submitting comments via email. Comments and documents submitted via email also will be posted to https://www.regulations.gov. If you do not want your personal contact information to be publicly viewable, do not include it in your comment or any accompanying documents. Instead, provide your contact information on a cover letter. Include your first and last names, email address, telephone number, and optional mailing address. The cover letter will not be publicly viewable as long as it does not include any comments.

Include contact information each time you submit comments, data, documents, and other information to DOE. No faxes will be accepted.

Comments, data, and other information submitted to DOE electronically should be provided in PDF (preferred), Microsoft Word or Excel, WordPerfect, or text (ASCII) file format. Provide documents that are not secured, written in English and free of any defects or viruses. Documents should not contain special characters or any form of encryption and, if possible, they should carry the electronic signature of the author.

Campaign form letters. Please submit campaign form letters by the originating organization in batches of between 50 to 500 form letters per PDF or as one form letter with a list of supporters' names compiled into one or more PDFs. This reduces comment processing and posting time.

Confidential Business Information. Pursuant to 10 CFR 1004.11, any person submitting information that he or she believes to be confidential and exempt by law from public disclosure should submit via email two well-marked copies: One copy of the document marked confidential including all the information believed to be confidential, and one copy of the document marked “non-confidential” with the information believed to be confidential deleted. DOE will make its own determination about the confidential status of the information and treat it according to its determination.

It is DOE's policy that all comments may be included in the public docket, without change and as received, including any personal information provided in the comments (except information deemed to be exempt from public disclosure).

DOE considers public participation to be a very important part of the process for developing energy conservation standards. DOE actively encourages the participation and interaction of the public during the comment period in this process. Interactions with and between members of the public provide a balanced discussion of the issues and assist DOE. Anyone who wishes to be added to the DOE mailing list to receive future notices and information about this process or would like to request a public meeting should contact Appliance and Equipment Standards Program staff at (202) 287-1445 or via email at ApplianceStandardsQuestions@ee.doe.gov.

Signing Authority

This document of the Department of Energy was signed on May 20, 2021, by Kelly Speakes-Backman, Principal Deputy Assistant Secretary and Acting Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on May 20, 2021.
Treena V. Garrett,
Federal Register Liaison Officer, U.S. Department of Energy.

[FR Doc. 2021-11018 Filed 5-24-21; 8:45 am]

BILLING CODE 6450-01-P